FEDERAL MINE SAFETY AND HEALTH REVIEW COMMISSION

Sunshine Act Meetings

TIME AND DATE: 10 a.m., Thursday, January 15, 2026.

PLACE: The Richard V. Backley Hearing Room, Room 511, 1331 Pennsylvania Avenue NW, Suite 504 North, Washington, DC 20004 (enter from F Street entrance).

STATUS: Open.

MATTERS TO BE CONSIDERED: The Commission will consider and act upon the following in open session: Secretary of Labor on behalf of Rubio v. Castle Mountain Venture, Docket No. WEST 2024-0283-DM (Issues include whether the Judge erred in sealing a settlement agreement).

Any person attending this meeting who requires special accessibility features and/or auxiliary aids, such as sign language interpreters, must inform the Commission in advance of those needs. Subject to 29 CFR 2706.150(a)(3) and 2706.160(d).

CONTACT PERSON FOR MORE INFORMATION: Rory P. Smith (202) 525-8649 / (202) 708-9300 for TDD Relay / 1-800-877-8339 for toll free.

Phone Number for Listening to Meeting: 1-(866) 236-7472. Passcode: 678-100.

Authority: 5 U.S.C. 552b.

Dated: December 16, 2025.
Rory P. Smith,
Attorney-Advisor.

[FR Doc. 2025-23290 Filed 12-16-25; 4:15 pm]

BILLING CODE 6735-01-P